DEPARTMENT OF HOMELAND SECURITY

Transportation Security Administration

Notice of Intent To Request Renewal From the Office of Management and Budget (OMB) of One Current Public Collection of Information; Flight Crew Self-Defense Training—Registration and Evaluation

AGENCY: Transportation Security Administration (TSA), DHS.

ACTION: Notice.

SUMMARY: TSA invites public comment on an existing information collection requirement, abstracted below, that will be submitted to OMB for renewal in compliance with the Paperwork Reduction Act.

DATES: Send your comments by April 4, 2005.

ADDRESSES: Comments to be delivered to Katrina Wawer, Information Collection Specialist, TSA Headquarters, East Tower, Floor 7, TSA-9, 601 South 12th Street, Arlington, VA 22202-4220; facsimile (571) 227-2594; email katrina.wawer@dhs.gov.

FOR FURTHER INFORMATION CONTACT: Katrina Wawer, Information Collection Specialist (571) 227-1995.

SUPPLEMENTARY INFORMATION: In accordance with the Paperwork Reduction Act of 1995, (44 U.S.C. 3501 et seq.), an agency may not conduct or sponsor, and a person is not required to respond to a collection of information, unless it displays a valid OMB control number. Therefore, in preparation for submission of the specified information collection for renewal, TSA solicits comments in order to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology where appropriate.

1652-0028, Flight Crew Self-Defense Training—Registration and Evaluation. TSA is seeking to renew information collection request number 1652-0028 to continue compliance with statutory mandate. Section 603 of Vision 100—Century of Aviation Reauthorization Act, Public Law 108-176, requires TSA to develop and provide a voluntary advanced self-defense training program for flight and cabin crew members of air carriers providing scheduled passenger air transportation. TSA collects limited biographical information from flight crew members to confirm their eligibility for training. TSA also asks participants to complete an anonymous and voluntary evaluation form after the training is completed to assess the quality of the training. TSA requests this renewal to continue confirming participants' eligibility and attendance for the training program, as well as to continue to assess training quality. The estimated number of annual respondents is 3,000 and estimated annual burden is 750 hours. There is no estimated annual cost burden to respondents.

The approval of this information collection expires on April 30, 2005.

Issued in Arlington, Virginia, on January 25, 2005.
Lisa S. Dean,
Privacy Officer.

[FR Doc. 05-1926 Filed 2-1-05; 8:45 am]

BILLING CODE 4910-62-P